DEPARTMENT OF TRANSPORTATION

Federal Aviation Administration

14 CFR Part 39

[Docket No. FAA-2007-28301; Directorate Identifier 2007-NM-061-AD; Amendment 39-15208; AD 2007-19-17]

RIN 2120-AA64

Airworthiness Directives; McDonnell Douglas Model MD-11, MD-11F, DC-10-10, DC-10-10F, DC-10-15, DC-10-30, DC-10-30F (KC-10A and KDC-10), DC-10-40, DC-10-40F, MD-10-10F, and MD-10-30F Airplanes

AGENCY: Federal Aviation Administration (FAA), Department of Transportation (DOT).

ACTION: Final rule.

SUMMARY: The FAA is adopting a new airworthiness directive (AD) for all McDonnell Douglas Model MD-11 and MD-11F airplanes and certain Model DC-10-10, DC-10-10F, DC-10-15, DC-10-30, DC-10-30F (KC-10A and KDC-10), DC-10-40, DC-10-40F, MD-10-10F, and MD-10-30F airplanes. This AD requires rerouting system 3 hydraulic piping, installing new pipe assemblies and unions, and installing redesigned support brackets for the system 3 hydraulic piping. This AD results from a report of damage to the hydraulic system that occurred when pieces of a ruptured tire from the left main landing gear penetrated the wing trailing edge access panel during takeoff. We are issuing this AD to prevent damage to the system 3 hydraulic piping, which could result in loss of the hydraulic system.

DATES: This AD becomes effective October 26, 2007.

The Director of the Federal Register approved the incorporation by reference of certain publications listed in the AD as of October 26, 2007.

ADDRESSES: You may examine the AD docket on the Internet at http://dms.dot.gov or in person at the U.S. Department of Transportation, Docket Operations, M-30, West Building Ground Floor, Room W12-140, 1200 New Jersey Avenue, SE., Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Ken Sujishi, Aerospace Engineer, Cabin Safety Branch, ANM-150L, FAA, Los Angeles Aircraft Certification Office, 3960 Paramount Boulevard, Lakewood, California 90712-4137; telephone (562) 627-5353; fax (562) 627-5210.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that would apply to all McDonnell Douglas Model MD-11 and MD-11F airplanes and certain Model DC-10-10, DC-10-10F, DC-10-15, DC-10-30, DC-10-30F (KC-10A and KDC-10), DC-10-40, DC-10-40F, MD-10-10F, and MD-10-30F airplanes. That NPRM was published in the Federal Register on May 29, 2007 (72 FR 29447). That NPRM proposed to require rerouting system 3 hydraulic piping, installing new pipe assemblies and unions, and installing redesigned support brackets for the system 3 hydraulic piping.

Comments

We provided the public the opportunity to participate in the development of this AD. We have considered the comment received.

Request To Extend the Compliance Time

The NPRM specified a 2-year compliance time for the modification. According to the commenter, the U.S. Air Force, this is not enough time to modify the 59 airplanes in its Model KC-10 fleet, at a current C-check interval of 2 years. The commenter requests that we revise the proposed compliance time from 2 years to 5 years, in light of the lead time necessary to order parts and the U.S. Air Force's low usage rate relative to that of the commercial operators.

We do not agree with the request. Boeing has confirmed that parts will be available to accommodate the 2-year lead time necessary to accomplish the requirements of this AD. We have not changed the AD regarding this issue. However, according to the provisions of paragraph (h) of this AD, we may approve requests to adjust the compliance time if the request includes data that prove that the new compliance time would provide an acceptable level of safety.

Changes to NPRM

We have revised this final rule to refer to the service bulletins as Boeing (not McDonnell Douglas) Alert Service Bulletin MC11-29A068 and Boeing (not McDonnell Douglas) Alert Service Bulletin DC10-29A147.

Proposed paragraph (f) specified to reroute “system hydraulic piping.” We have revised this final rule to specify that rerouting the piping must be done on “system 3 hydraulic piping.”

Conclusion

We have carefully reviewed the available data, including the comment received, and determined that air safety and the public interest require adopting the AD with the changes described previously. We have determined that these changes will neither increase the economic burden on any operator nor increase the scope of the AD.

Costs of Compliance

There are about 430 airplanes of the affected design in the worldwide fleet. The following table provides the estimated costs for U.S. operators to comply with this AD.

Estimated Costs
Work hours | Average labor rate per hour | Parts | Cost per airplane | Number of U.S.-registered airplanes | Fleet cost
60 | $80 | $14,020 to $14,620 | $18,820 to $19,420 | 260 | $4,893,200 to $5,049,200.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-19-17 McDonnell Douglas: Amendment 39-15208. Docket No. FAA-2007-28301; Directorate Identifier 2007-NM-061-AD.

Effective Date

(a) This AD becomes effective October 26, 2007.

Affected ADs

(b) None.

Applicability

(c) This AD applies to the following McDonnell Douglas airplanes, certificated in any category:

(1) All Model MD-11 and MD-11F airplanes.

(2) DC-10-10, DC-10-10F, DC-10-15, DC-10-30, DC-10-30F (KC-10A and KDC-10), DC-10-40, DC-10-40F, MD-10-10F, and MD-10-30F airplanes; as identified in Boeing Alert Service Bulletin DC10-29A147, dated February 9, 2007.

Unsafe Condition

(d) This AD results from a report of damage to the hydraulic system that occurred when pieces of a ruptured tire from the left main landing gear penetrated the wing trailing edge access panel during takeoff. We are issuing this AD to prevent damage to the system 3 hydraulic piping, which could result in loss of the hydraulic system.

Compliance

(e) You are responsible for having the actions required by this AD performed within the compliance times specified, unless the actions have already been done.

Modification

(f) Within 24 months after the effective date of this AD, reroute system 3 hydraulic piping, install new pipe assemblies and unions, and install redesigned support brackets for system 3 hydraulic piping. Do these actions in accordance with the Accomplishment Instructions of Boeing Alert Service Bulletin MD11-29A068, Revision 1, dated February 9, 2007 (for Model MD-11 and MD-11F airplanes); or Boeing Alert Service Bulletin DC10-29A147, dated February 9, 2007 (for Model DC-10-10, DC-10-10F, DC-10-15, DC-10-30, DC-10-30F (KC-10A and KDC-10), DC-10-40, DC-10-40F, MD-10-10F, and MD-10-30F airplanes).

(g) Accomplishment before the effective date of this AD of the modification required by paragraph (f) of this AD in accordance with Boeing Alert Service Bulletin MD11-29A068, dated January 23, 2007, is acceptable for compliance with the requirements of paragraph (f) of this AD.

Alternative Methods of Compliance (AMOCs)

(h)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Boeing Alert Service Bulletin MD11-29A068, Revision 1, dated February 9, 2007; or Boeing Alert Service Bulletin DC10-29A147, dated February 9, 2007; as applicable, to perform the actions that are required by this AD, unless the AD specifies otherwise. The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the FAA, Transport Airplane Directorate, 1601 Lind Avenue, SW., Renton, Washington; or at the National Archives and Records Administration (NARA). For information on the availability of this material at NARA, call 202-741-6030, or go to http://www.archives.gov/federal-register/cfr/ibr-locations.html.

Issued in Renton, Washington, on September 10, 2007.
Ali Bahrami,
Manager, Transport Airplane Directorate, Aircraft Certification Service.

[FR Doc. E7-18459 Filed 9-20-07; 8:45 am]

BILLING CODE 4910-13-P